DEPARTMENT OF DEFENSE

[OMB Control Number 0704-0397]

Information Collection Requirement; Defense Federal Acquisition Regulation Supplement; Requests for Equitable Adjustment

AGENCY: Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection for use through February 28, 2006. DoD proposes that OMB extend its approval for use through February 28, 2009.

DATES: DoD will consider all comments received by November 28, 2005.

ADDRESSES: You may submit comments, identified by OMB Control Number 0704-0397, using any of the following methods:

• Defense Acquisition Regulations Web Site: http://emissary.acq.osd.mil/dar/dfars.nsf/pubcomm. Follow the instructions for submitting comments.

• E-mail: dfars@osd.mil. Include OMB Control Number 0704-0397 in the subject line of the message.

• Fax: (703) 602-0350.

• Mail: Defense Acquisition Regulations Council, Attn: Ms. Deborah Tronic, OUSD (AT&L) DPAP (DAR), IMD 3C132, 3062 Defense Pentagon, Washington, DC 20301-3062.

• Hand Delivery/Courier: Defense Acquisition Regulations Council, Crystal Square 4, Suite 200A, 241 18th Street, Arlington, VA 22202-3402.

All comments received will be posted to http://emissary.acq.osd.mil/dar/dfars.nsf.

FOR FURTHER INFORMATION CONTACT: Ms. Deborah Tronic, (703) 602-0289. The information collection requirements addressed in this notice are available electronically via the Internet at: http://www.acq.osd.mil/dpap/dars/dfars/index.htm. Paper copies are available from Ms. Deborah Tronic, OUSD (AT&L) DPAP (DAR), IMD 3C132, 3062 Defense Pentagon, Washington, DC 20301-3062.

SUPPLEMENTARY INFORMATION:

Title and OMB Number: Contract Modifications—Defense Federal Acquisition Regulation Supplement (DFARS) Part 243 and associated clauses in DFARS 252.243; OMB Control Number 0704-0397.

Needs and Uses: The information collection required by the clause at DFARS 252.243-7002, Requests for Equitable Adjustment, implements 10 U.S.C. 2410(a). DoD contracting officers and auditors use this information to evaluate contractor requests for equitable adjustment to contract terms.

Affected Public: Businesses or other for-profit and not-for-profit institutions.

Annual Burden Hours: 2,120.

Number of Respondents: 440.

Responses Per Respondent: 1.

Annual Responses: 440.

Average Burden Per Response: 4.8 hours.

Frequency: On occasion.

Summary of Information Collection

The clause at DFARS 252.243-7002, Requests for Equitable Adjustment, requires contractors to certify that requests for equitable adjustment that exceed the simplified acquisition threshold are made in good faith and that the supporting data are accurate and complete. The clause also requires contractors to fully disclose all facts relevant to the requests for adjustment.

Michele P. Peterson,
Editor, Defense Acquisition Regulations System.

[FR Doc. 05-19459 Filed 9-28-05; 8:45 am]

BILLING CODE 5001-08-P